DEPARTMENT OF ENERGY

Federal Energy Regulatory Commission

[Project No. 14418-000]

S. Martinez Livestock, Inc.; Notice of Preliminary Permit Application Accepted for Filing and Soliciting Comments, Motions To Intervene, and Competing Applications

On May 31, 2012, and revised on July 30, 2012, S. Martinez Livestock, Inc. filed an application for a preliminary permit, pursuant to section 4(f) of the Federal Power Act (FPA), proposing to study the feasibility of the Cold Creek Valley Pumped Storage Project (project) to be located downstream of Priest Rapids dam on the Columbia River, in Yakima County, Washington. The sole purpose of a preliminary permit, if issued, is to grant the permit holder priority to file a license application during the permit term. A preliminary permit does not authorize the permit holder to perform any land-disturbing activities or otherwise enter upon lands or waters owned by others without the owners' express permission.

The proposed project would include a pumped storage facility and a traditional turbine-generator facility. The pumped storage facility would consist of: (1) A new upper reservoir in Cold Creek Valley; (2) a proposed intake structure including five 1,800-foot-long, 10-foot-diameter penstocks leading to the powerhouse located on the Columbia River downstream of Priest Rapids Dam; (3) a powerhouse with five 400 megawatt (MW) pump/turbine units with an installed capacity of approximately 2,000 MW; and (4) a 30-mile-long transmission line. The estimated annual generation of the pumped storage facility would be 86,430 megawatt hours. The turbine-generator facility would consist of: (1) an intake leading to a 200-foot-long, 5-foot-diamater penstock; and (2) a powerhouse with a 5-MW Francis turbine-generator unit. The estimated annual generation of the turbine generator unit would be 17,286 megawatt hours.

Applicant Contact: Mr. Daniel T. Martinez, S. Martinez Livestock, Inc., 13395 Hwy. 24, Moxee, WA 98936; phone: (541) 298-3300.

FERC Contact: James Hastreiter; phone: (202) 552-2760.

Deadline for filing comments, motions to intervene, competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-866-208-3676, or for TTY, (202) 502-8659. Although the Commission strongly encourages electronic filing, documents may also be paper-filed. To paper-file, mail an original and seven copies to: Kimberly D. Bose, Secretary, Federal Energy Regulatory Commission, 888 First Street NE., Washington, DC 20426.

More information about this project, including a copy of the application, can be viewed or printed on the “eLibrary” link of Commission's Web site at http://www.ferc.gov/docs-filing/elibrary.asp. Enter the docket number (P-14418) in the docket number field to access the document. For assistance, contact FERC Online Support.

Dated: February 14, 2013.
Kimberly D. Bose,
Secretary.

[FR Doc. 2013-03952 Filed 2-20-13; 8:45 am]

BILLING CODE 6717-01-P